SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than June 27, 2011. Individuals can obtain copies of the collection instruments by calling the SSA Reports Clearance Officer at 410-965-8783 or by writing to the above e-mail address.

1. Farm Arrangement Questionnaire—20 CFR 404.1082(c)—0960-0064. When self-employed workers submit earnings data to SSA, they cannot count rental income from a farm unless they demonstrate “material participation” in the farm's operation. A material participation arrangement means the farm owners must perform a combination of physical duties, management decisions, and capital investment in the farm they are renting out. In such cases, SSA uses Form SSA-7157, the Farm Arrangement Questionnaire, to document material participation. The respondents are workers who are renting farmland to others, are involved in the operation of the farm, and want to claim countable income from work they perform relating to the farm.

Type of Request: Revision of an OMB-approved information collection.

Number of Respondents: 38,000.

Average Burden per Response: 30 minutes.

Estimated Annual Burden: 19,000 hours.

2. Authorization to Disclose Information to SSA—20 CFR 404.1512 and 416.912, 45 CFR 160 and 164—0960-0623. SSA must obtain sufficient evidence to make eligibility determinations for Title II and Title XVI payments. Therefore, the applicant must authorize release of information from various sources to SSA. The applicant uses the SSA-827 to provide consent for the release of medical records, education records, and other information related to his or her ability to perform tasks. Once the applicant completes the SSA-827, SSA or the State Disability Determination Service sends the form to the designated source(s) to obtain pertinent records. The respondents are applicants for Title II benefits and Title XVI payments.

Type of Request: Revision of an OMB-approved information collection.

Modality | Number of respondents | Frequency of response | Number of responses | Average burden per response (minutes) | Total annual burden (hours)
SSA-827 with electronic signature (adult first person only) | 2,530,000 | 1 | 2,530,000 | 9 | 379,500
SSA-827 with wet signature | 1,591,551 | 1 | 1,591,551 | 10 | 265,259
Reading the Internet instructions | 708,100 | 1 | 708,100 | 3 | 35,405

Collectively:

Number of Respondents: 4,121,551.

Number of Responses: 4,829,651.

Total Annual Burden: 680,164 hours.

II. SSA submitted the information collection below to OMB for clearance. Your comments regarding the information collection would be most useful if OMB and SSA receive them within 30 days from the date of this publication. To be sure we consider your comments, we must receive them no later than May 27, 2011. You can obtain a copy of the OMB clearance package by calling the SSA Reports Clearance Officer at 410-965-8783 or by writing to the above e-mail address.

Medicare Modernization Act Outreach Mailer, SSA-1023—20 CFR 418—0960-0773. To promote awareness of the Medicare Part D subsidy program and encourage potentially eligible Medicare beneficiaries to complete Form SSA-1020 (OMB No. 0960-0696, the Application for Extra Help with Medicare Prescription Drug Plan Costs), SSA uses an outreach brochure that includes the mailer, Form SSA-1023. Pharmacies, doctors' offices, and medical clinics display and distribute copies of the brochure to encourage eligible Medicare beneficiaries to request and complete Form SSA-1020. Using a recorded, automated telephone call requiring no conversation with respondents, SSA follows up with beneficiaries who use the mailer to request an SSA-1020 but do not submit the SSA-1020 to the agency. The respondents are Medicare beneficiaries who are potentially eligible for Part D subsidy benefits and who request a copy of Form SSA-1020 using the SSA-1023 mailer.

Type of Request: Revision of an OMB-approved information collection.

Number of Respondents: 75,000.

Frequency of Response: 1.

Average Burden per Response: 1 minute.

Estimated Annual Burden: 1,250 hours.

Dated: April 22, 2011.
Faye Lipsky,
Reports Clearance Officer, Center for Reports Clearance, Social Security Administration.

[FR Doc. 2011-10132 Filed 4-26-11; 8:45 am]

BILLING CODE 4191-02-P